DEPARTMENT OF HEALTH AND HUMAN SERVICES

Health Resources and Services Administration

National Advisory Committee on Rural Health and Human Services; Notice of Meeting

In accordance with section 10(a)(2) of the Federal Advisory Committee Act (Pub. L. 92-463), notice is hereby given that the following committee will convene its sixty-seventh meeting.

Name: National Advisory Committee on Rural Health and Human Services.

Dates and Times: June 15, 2011, 9 a.m.-4:45 p.m., June 16, 2011, 9 a.m.-4:45 p.m., June 17, 2011, 8:45 a.m.-10:30 a.m.

Place: Park Place Hotel, 300 East State Street, Traverse City, MI 49684. (231) 946-5000.

Status: The meeting will be open to the public.

Purpose: The National Advisory Committee on Rural Health and Human Services provides advice and recommendations of health and human services in rural areas.

Agenda: Wednesday morning, at 9 a.m., the meeting will be called to order by the Chairperson of the Committee, the Honorable Ronnie Musgrove. The first three presentations will be overviews of rural Michigan and the relevant health indicators. The remainder of the day the Committee will hear presentations on two of the chosen Subcommittee topics. The first panel will focus on the impact of Value-Based Purchasing Demonstrations. The second panel will focus on primary care training and placement. The Subcommittees will then move into breakout sessions to further discuss these topics. After the panel discussions, the Committee Chair will give an overview of the site visits. This will be followed by a call for public comment. The Wednesday meeting will close at 4:45 p.m.

Thursday morning, at 9 a.m., the Committee will travel to Munson Medical Center for a briefing on its role in serving the region. At 10 a.m. the Committee will break into Subcommittees and depart to the site visits. The Value-Based Purchasing Demonstrations Subcommittee will meet at Mercy Cadillac Hospital in Cadillac, MI. The Primary Care Training and Placement Subcommittee will meet at Kalkaska Rural Health Clinic in Kalkaska, MI. The Subcommittees will return to the Park Place Hotel in Traverse City at 4 p.m. Transportation to the site visits will not be provided to the public. The Thursday meeting will close at 4:45 p.m.

The Final session will be convened on Friday morning at 8:45 am. The meeting will open with a review of the Subcommittee site visits. The Committee will draft a letter to the Secretary or Designee and discuss the September 2011 meeting. The meeting will adjourn at 10:30 a.m.

For Further Information Contact: Thomas Morris, MPA, Executive Secretary, National Advisory Committee on Rural Health and Human Services, Health Resources and Services Administration, Parklawn Building, Room 10B-45, 5600 Fishers Lane, Rockville, MD 20857, Telephone (301) 443-0835, Fax (301) 443-2803.

Persons interested in attending any portion of the meeting should contact Deborah DeMasse-Snell at the Office of Rural Health Policy (ORHP) via Telephone at (301) 443-0835 or by e-mail at ddemasse-snell@hrsa.gov. The committee meeting agenda will be posted on ORHP's Web site http://www.ruralhealth.hrsa.gov.

Dated: April 28, 2011.
Reva Harris,
Acting Director, Division of Policy and Information Coordination.

[FR Doc. 2011-10983 Filed 5-4-11; 8:45 am]

BILLING CODE 4165-15-P